DEPARTMENT OF HEALTH AND HUMAN SERVICES

National Biodefense Science Board Public Meeting

AGENCY: Administration for Strategic Preparedness and Response (ASPR), Department of Health and Human Services (HHS).

ACTION: Notice.

SUMMARY: The National Biodefense Science Board (NBSB) will publicly meet using an online format on Thursday, November 30, 2023 (12:30 to 4:00 p.m. ET). Notice of the meeting is required under section 10(a)(2) of the Federal Advisory Committee Act (FACA). The NBSB provides expert advice and guidance to the U.S. Department of Health and Human Services (HHS) regarding current and future chemical, biological, radiological, and nuclear threats, as well as other matters related to disaster preparedness and response. The Administration for Strategic Preparedness and Response (ASPR) manages and convenes the NBSB on behalf the Secretary of HHS. The NBSB will discuss and vote on two sets of recommendations related to COVID-19 pandemic lessons, Project NextGen vaccine and therapeutic products, and disaster preparedness training.

Procedures for Public Participation: The public and expert stakeholders are invited to observe the meeting. Pre-registration (Zoom) is required. Anyone may submit questions and comments to the NBSB by email (NBSB@hhs.gov) before the meeting. American Sign Language translation and Communication Access Real-Time Translation will be provided.

Representatives from industry, academia, health professions, health care consumer organizations, non-federal government agencies, or community-based organizations may request up to seven minutes to speak directly to the Board. Requests to speak to the Board will be approved in consultation with the Board Chair and based on time available during the meeting. Requests to speak to the NBSB during the public meeting must be sent to NBSB@hhs.gov by close of business on November 23, 2023. Please provide the full name, credentials, official position(s), and relevant affiliations for the speaker and a brief description of the intended topic. Presentations that contain material with a commercial bias, advertising, marketing, or solicitations will not be allowed. A meeting summary will be available on the NBSB website post-meeting.

FOR FURTHER INFORMATION CONTACT: CAPT Christopher Perdue; NBSB Designated Federal Official, (202) 480-7226; NBSB@HHS.GOV.

Dawn O'Connell,
Assistant Secretary for Preparedness and Response.

[FR Doc. 2023-23532 Filed 10-24-23; 8:45 am]

BILLING CODE 4150-37-P